DEPARTMENT OF THE INTERIOR

Bureau of Land Management

[LLWO260000.L10600000.PC0000.LXSIADVSBD00.18X]

Wild Horse and Burro Advisory Board Meeting

AGENCY: Bureau of Land Management, Interior.

ACTION: Notice of advisory board meeting.

SUMMARY: In accordance with the Federal Land Policy and Management Act of 1976 and the Federal Advisory Committee Act of 1972, the U.S. Department of the Interior, Bureau of Land Management's (BLM) Wild Horse and Burro Advisory Board (Advisory Board) will meet as indicated below.

DATES: The Advisory Board will hold a public meeting Tuesday through Thursday, October 9-11, 2018; from 7 a.m. to 5 p.m. on Tuesday; and from 8 a.m. to 5 p.m. on Wednesday and Thursday. A public comment period will be held on Thursday, October 11, 2018, from 2 p.m. to 4:30 p.m. All times are in Mountain Daylight Time (MDT).

ADDRESSES: The Advisory Board will meet at the Courtyard Marriott Salt Lake City Downtown, 345 West 100 South, Salt Lake City, UT 84101; hotel website: https://www.marriott.com/hotels/travel/slccd-courtyard-salt-lake-city-downtown/; hotel phone: 385-290-6500.

Written comments and statements must be mailed to the U.S. Department of the Interior, Bureau of Land Management, National Wild Horse and Burro Program, Attention: Dorothea Boothe WO-260, 20 M Street SE, Room 2134LM, Washington, DC 20003, or emailed to: whbadvisoryboard@blm.gov by October 2, 2018, in order for the Board to consider them at the October meeting. Please include “Advisory Board Comment” in the subject line of the email.

FOR FURTHER INFORMATION CONTACT: Dorothea Boothe, Wild Horse and Burro Program Coordinator, at 202-912-7654, or by email at dboothe@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The Advisory Board advises the Secretary of the Interior, through the BLM Director, and the Secretary of Agriculture, through the Chief of the U.S. Forest Service, on matters pertaining to the management and protection of wild, free-roaming horses and burros on the Nation's public lands. The Advisory Board operates under the authority of 43 CFR part 1780, subpart 1784. The tentative agenda for the meeting is:

I. Advisory Board Public Meeting

Tuesday, October 9, 2018 (7:00 a.m.-5:00 p.m.)

Field Tour of the Onaqui Horse Herd Management Area—7:00 a.m. to Noon

(The field tour is open to limited public attendance with advanced sign-up on a first-come, first-served basis. Attendees must provide for their own transportation (high-clearance vehicle recommended) and personal needs. Field tour attendees will depart from the Courtyard Marriott at 7:00 a.m. To sign up, contact Dorothea Boothe by email at dboothe@blm.gov by September 28, 2018.)

Advisory Board Working Group Meetings—1:15 p.m. to 5:00 p.m.

Wednesday, October 10, 2018 (8:00 a.m.-5:00 p.m.)

Welcome, Introductions, Agenda Review

Program Overview

Advisory Board General Business

Thursday, October 11, 2018 (8:00 a.m.-5:00 p.m.)

Welcome, Introductions, and Agenda Review

Topics of Interest to the Board

Advisory Board General Business

Advisory Board Working Group Reports

Public Comment Period

Advisory Board Discussion and Recommendations to the BLM

The detailed final agenda will be posted 48 hours in advance of the meeting at https://www.blm.gov/programs/wild-horse-and-burro/get-involved/advisory-board.

The meeting will be live-streamed at www.blm.gov/live. The meeting site is accessible to individuals with disabilities. An individual with a disability needing an auxiliary aid or service to participate in the meeting, such as an interpreting service, assistive listening device, or materials in an alternate format, must notify Ms. Boothe no later than September 25, 2018. Although the BLM will attempt to meet a request received after that date, the requested auxiliary aid or service may not be available because of insufficient time to arrange for it.

II. Public Comment Procedures

On Thursday, October 11, 2018, members of the public will have the opportunity to make comments to the Board on the Wild Horse and Burro Program. Persons wishing to make comments during the public comment period should register in person with the BLM by 2:00 p.m. (MDT) on October 11, 2018, at the meeting location. Depending on the number of commenters, the Advisory Board may limit the length of comments. At previous meetings, comments have been limited to 2 minutes in length; however, this time may vary. Speakers are requested to submit a written copy of their statement to the address listed in the ADDRESSES section above no later than October 2, 2018, or bring a written copy to the meeting. There will be a webcam present during the entire meeting and individual comments will be recorded.

Participation in the Advisory Board meeting is not required to submit written comments. The BLM invites written comments from all interested parties. Your written comments should be specific and explain the reason for any recommendation. The BLM considers comments that are either supported by quantitative information or studies or those that include citations to and analysis of applicable laws and regulations to be the most useful and likely to influence the BLM's decisions on the management and protection of wild horses and burros.

Before including your address, phone number, email address, or other personal identifying information in your comment, you should be aware that your entire comment—including your personal identifying information—may be made publicly available at any time. While you can ask in your comment that the BLM withhold your personal identifying information from public review, the BLM cannot guarantee that it will be able to do so.

(Authority: 43 CFR 1784.4-2)

Kristin Bail,
Assistant Director, Resources and Planning.

[FR Doc. 2018-19301 Filed 9-5-18; 8:45 am]

BILLING CODE 4310-84-P